DEPARTMENT OF THE INTERIOR

Bureau of Land Management

[ID-933-1430-01; IDI-15518, IDI 15557]

Public Land Order No. 7454; Partial Revocation of Secretarial Orders dated September 27, 1909 and August 12, 1912; Idaho

AGENCY: Bureau of Land Management, Interior.

ACTION: Public land order.

SUMMARY: This order partially revokes two Secretarial orders insofar as they affect 7.5 acres of land withdrawn for use by the Bureau of Reclamation for the Minidoka Reclamation Project. The land is no longer needed for the purpose for which it was withdrawn. The land has been conveyed out of Federal ownership pursuant to Public Law 105-351. This action is for record clearing purposes only.

EFFECTIVE DATE: June 29, 2000.

FOR FURTHER INFORMATION CONTACT: Jackie Simmons, BLM Idaho State Office, 1387 S. Vinnell Way, Boise, Idaho 83709, 208-373-3867.

By virtue of the authority vested in the Secretary of the Interior by Section 204 of the Federal Land Policy and Management Act of 1976, 43 U.S.C. 1714 (1994), it is ordered as follows:

1. Secretarial Orders dated September 27, 1909 and August 12, 1912, which withdrew public land for the Minidoka Reclamation Project, are hereby revoked insofar as they affect the following described land:

Boise Meridian

T. 10 S., R. 25 E.,

Sec. 30, S½S½SW¼NE¼NW¼ and N½NW¼SE¼NW¼.

The area described aggregates 7.5 acres in Cassia County.

Dated: June 2, 2000.
Sylvia V. Baca,
Assistant Secretary of the Interior.

[FR Doc. 00-16459 Filed 6-28-00; 8:45 am]

BILLING CODE 4310-GG-P